DEPARTMENT OF JUSTICE

Notice of Lodging of Proposed Consent Decree Under The Comprehensive Environemental Response, Compensation and Liability Act

On June 8, 2020, the Department of Justice lodged a proposed Consent Decree with the United States District Court for the District of Montana in the lawsuit entitled United States v. Atlantic Richfield Company, et al., Civil Action No. Civil Action No. CV-89-39-BU-SEH.

The proposed Consent Decree would resolve claims the United States and State of Montana have brought pursuant to Section 107(a) of the Comprehensive Environmental Response, Compensation, and Liability Act, 42 U.S.C. 9607(a), against the Atlantic Richfield Company and the City and County of Butte Silver Bow (“BSB”) related to the Butte Priority Soils Operable Unit.

The Consent Decree requires Atlantic Richfield to remove contaminated mine tailings in numerous locations in and near Butte, Montana, capture and treat certain contaminated groundwater, and construct stormwater retention basins to protect surface waters from contaminated runoff. In addition, Atlantic Richfield will pay EPA $3.5 million for past costs, $11.2 million in future oversight costs, and $20.5 million to the State of Montana to undertake certain remedial and restoration actions. BSB will implement stormwater control and operation and maintenance activities with funding from Atlantic Richfield. The Consent Decree also requires certain federal agencies to pay $10 million of EPA's past costs to resolve Atlantic Richfield's counterclaims. The Consent Decree provides Defendants and certain related persons covenants not to sue relating to the BPSOU under Sections 106, 107(a) and 113(f) of CERCLA, 42 U.S.C. 9606, 9607(a) and 9613(f); Sections 3004(u) and (v), 3008 and 7003 of RCRA, 42 U.S.C. 6924(u) and (v), 6928 and 6973; and Sections 309(b), 311 and 504 of the Clean Water Act, 33 U.S.C. 1319(b), 1321 and 1364.

The publication of this notice opens a period for public comment on the Consent Decree. Comments should be addressed to the Office of the Assistant Attorney General, Environment and Natural Resources Division, and should refer to United States and State of Montana v. Atlantic Richfield Company, et al., D.J. Ref. No. 90-11-2-430. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $355.50 (25 cents per page reproduction cost) payable to the United States Treasury. For a paper copy without the exhibits, the cost is $39.75.

Jeffrey Sands,
Assistant Section Chief, Environmental Enforcement Section, Environment and Natural Resources Division.

[FR Doc. 2020-12797 Filed 6-12-20; 8:45 am]

BILLING CODE 4410-15-P